ENVIRONMENTAL PROTECTION AGENCY

[FRL-8808-1]

Agency Information Collection Activities; Proposed Renewal of Several Currently Approved Collections; Comment Request

AGENCY: Environmental Protection Agency (EPA).

ACTION: Notice.

SUMMARY: In compliance with the Paperwork Reduction Act (PRA) (44 U.S.C. 3501 et seq.), this document announces that EPA is planning to submit requests to renew several currently approved Information Collection Request (ICR) to the Office of Management and Budget (OMB). The ICRs are specifically identified in this document by their corresponding titles, EPA ICR numbers, OMB Control numbers, and related docket identification (ID) numbers. Before submitting these ICRs to OMB for review and approval, EPA is soliciting comments on specific aspects of the information collection activities.

DATES: Comments must be received on or before April 26, 2010.

ADDRESSES: Submit your comments, identified by the docket ID number for the corresponding ICR as identified in this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number for the corresponding ICR as identified in this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: For questions regarding EPA Docket ID Number EPA-HQ-OPP-2009-0885: Rame Cromwell, Field and External Affairs Division (7506P), Office of Pesticide Programs, Environmental Protection Agency, 1200 Pennsylvania Ave., NW., Washington, DC 20460-0001; telephone number: (703) 308-9068; fax number: (703) 305-5884; e-mail address: cromwell.rame@epa.gov.

For questions regarding EPA Docket ID Number EPA-HQ-OPP-2009-0886: Cameo Smoot, Field and External Affairs Division (7506P), Office of Pesticide Programs, Environmental Protection Agency, 1200 Pennsylvania Ave., NW., Washington, DC 20460-0001; telephone number: (703) 305-5454; fax number: (703) 305-5884; e-mail address: smoot.cameo@epa.gov.

SUPPLEMENTARY INFORMATION:

I. What Information is EPA Particularly Interested in?

Pursuant to section 3506(c)(2)(A) of PRA, EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Provide specific examples to illustrate your concerns.

6. Offer alternative ways to improve the collection activity.

7. Make sure to submit your comments by the deadline identified under DATES.

8. To ensure proper receipt by EPA, be sure to identify the docket ID number assigned to this action in the subject line on the first page of your response. You may also provide the name, date, and Federal Register citation.

III. What Do I Need to Know About PRA?

An Agency may not conduct or sponsor, and a person is not required to respond to, a collection of information subject to PRA approval unless it displays a currently valid OMB control number. The OMB control numbers for EPA's regulations in title 40 of the Code of Federal Regulations (CFR), after appearing in the preamble of the final rule, are further displayed either by publication in the Federal Register or by other appropriate means, such as on the related collection instruments or form, if applicable. The display of OMB control numbers for certain EPA regulations is consolidated in a list at 40 CFR 9.1.

Under PRA, burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

IV. Which ICRs Are Being Renewed?

EPA is planning to submit a number of currently approved ICRs to OMB for review and approval under PRA. In addition to specifically identifying the ICRs by title and corresponding ICR, OMB and docket ID numbers, this unit provides a brief summary of the information collection activity and the Agency's estimated burden. The Supporting Statement for each ICR, a copy of which is available in the corresponding docket, provides a more detailed explanation.

A. Docket ID Number EPA-HQ-OPP-2009-0885

Title: Pesticide Registration Fee Waivers.

ICR numbers: EPA ICR No. 2147.04, OMB Control No. 2070-0167.

ICR status: The approval for this ICR is scheduled to expire on October 31, 2010.

Affected entities: Entities potentially affected by this ICR include pesticide registrants seeking a waiver or exemption of fees under the Pesticide Registration Improvement Renewal Act (PRIA). The North American Industrial Classification System (NAICS) codes include 325320 (pesticide and other agricultural chemical manufacturing), 32518 (other basic inorganic chemical manufacturing), and 32519 (other basic organic chemical manufacturing).

Abstract: This information collection will allow EPA to process requests for waivers and exemptions of fees under the Pesticide Registration Improvement Renewal Act of 2007 (PRIA 2) which established section 33 of the Federal Insecticide, Fungicide and Rodenticide Act (FIFRA). The ICR covers the collection activities associated with requesting a fee waiver or exemption and involves requesters submitting a waiver or exemption request to provide information to demonstrate eligibility for the waiver or exemption and certification of eligibility. Waivers are available for small businesses and minor uses and exemptions are available for minor uses and actions solely associated with the Inter-Regional Research Project Number 4 (IR-4). State and Federal agencies are exempt from the payment of fees. This ICR provides burden hour and labor cost estimates for both applicants for fee waivers and EPA employees who process and approve or deny waiver requests.

Burden statement: The annual public reporting and recordkeeping burden for this collection of information is estimated to average 12 to 37 hours per response depending upon the type (A, B, or C) of respondent. The ICR, a copy of which is available in the docket, provides a detailed explanation of this estimate, which is only briefly summarized here:

Estimated total number of potential respondent requests: 1,800.

Frequency of response: As needed.

Estimated total average number of responses for each respondent: 1.

Estimated total annual burden hours: 5,611 hours.

Estimated total annual costs: $335,328.

Changes in the estimates from the last approval: The renewal of this ICR will result in an overall decrease of 2,757 hours in the total estimated respondent burden identified in the currently approved ICR. This decrease reflects a shift in both the number and type of waiver requests submitted. The average estimated burden per response has not changed. However, the total number of responses per year decreased from 389 to 293. In addition, there was a shift in the distribution of responses to the least-burdensome type, resulting in the lower total estimated burden. This change is an adjustment.

B. Docket ID Number EPA-HQ-OPP-2009-0886

Title: Submission of Unreasonable Adverse Effects Information under FIFRA Section 6(a)(2).

ICR numbers: EPA ICR No. 1204.11, OMB Control No. 2070-0039.

ICR status: The approval for this ICR is scheduled to expire on October 31, 2010.

Affected entities: Entities potentially affected by this ICR include anyone who holds or ever held a registration for a pesticide product issued under FIFRA section 3 or section 24(c). The NAICS code is 325320 (pesticide and other agricultural chemical manufacturing).

Abstract: This ICR is a proposed renewal of an existing ICR that is currently approved by OMB and is due to expire October 31, 2010. Section 6(a)(2) of FIFRA requires pesticide registrants to submit information to the Agency which may be relevant to the balancing of the risks and benefits of a pesticide product.

The statute requires the registrant to submit any factual information that it acquires regarding adverse effects associated with its pesticidal products, and it is up to the Agency to determine whether or not that factual information constitutes an unreasonable adverse effect. In order to limit the amount of less meaningful information that might be submitted to the Agency, EPA has limited the scope of factual information that the registrant must submit. The Agency's regulations at 40 CFR 159 provide a detailed description of the reporting obligations of registrants under FIFRA section 6(a)(2).

As expected, implementation of the 1998 final regulations (June 19, 1998; 63 FR 33580) initially resulted in an increase in the number of incident reports submitted annually. That was assumed to be the result of increased awareness and understanding on the part of pesticide registrants of their reporting responsibilities under FIFRA section 6(a)(2). After the first year under the regulations, incident reporting leveled off and has remained generally consistent. Study submissions, on the other hand, have gradually decreased as the pesticide re-registration program data call-in activities wound down. For the purposes of this renewal the estimate for study and incident submissions have been averaged for the three fiscal years 2006-2008.

Burden statement: The annual public reporting and recordkeeping burden for this collection of information is estimated to average a range of 2.1 hours to 3.5 hours per response. The ICR, a copy of which is available in the docket, provides a detailed explanation of this estimate, which is only briefly summarized here:

Estimated total number of potential respondents: 1,733.

Frequency of response: As needed.

Estimated total average number of responses for each respondent: For submission of studies less than 1. Submission of incidents may range from 1 to 40, however, incidents are usually reported as aggregate statistics.

Estimated total annual burden hours: 203,236 hours.

Estimated total annual costs: $11,793,027.

Changes in the estimates from the last approval: The renewal of this ICR will result in an overall increase of 35,920 hours in the total estimated respondent burden identified in the currently approved ICR. Total burden hour estimates associated with studies are reduced because the estimated number of study submissions is reduced from 240 to 183 studies. Burden estimates associated with the number of incident reports, however, are increased because of the increased volume of incident reporting (31%). In addition, an increase in the number of registrants of active products (1,733 versus 1,720) results in the need for additional employees to be trained. Overall, considering the net effect of the decrease in studies and the increase in incidents as well as the change in employee training, the total respondent burden hours increased from 167,316 to 203,236.

V. What is the Next Step in the Process for These ICRs?

EPA will consider the comments received and amend the individual ICRs as appropriate. The final ICR packages will then be submitted to OMB for review and approval pursuant to 5 CFR 1320.12. EPA will issue another Federal Register notice pursuant to 5 CFR 1320.5(a)(1)(iv) to announce the submission of these ICRs to OMB and the opportunity for the public to submit additional comments for OMB consideration. If you have any questions about any of these ICRs or the approval process in general, please contact the people listed under FOR FURTHER INFORMATION CONTACT.

List of Subjects

Environmental protection, Reporting and recordkeeping requirements.

Dated: February 17, 2010.
James Jones,
Acting Assistant Administrator, Office of Prevention, Pesticides and Toxic Substances.

[FR Doc. 2010-3694 Filed 2-23-10; 8:45 am]

BILLING CODE 6560-50-S